ENVIRONMENTAL PROTECTION AGENCY

[ER-FRL-9011-2]

Environmental Impacts Statements; Notice of Availability

Responsible Agency: Office of Federal Activities, General Information (202) 564-7146 or http://www.epa.gov/compliance/nepa/.

Weekly receipt of Environmental Impact Statements

Filed 09/09/2013 Through 09/13/2013

Pursuant to 40 CFR 1506.9.

Notice

Section 309(a) of the Clean Air Act requires that EPA make public its comments on EISs issued by other Federal agencies. EPA's comment letters on EISs are available at: http://www.epa.gov/compliance/nepa/eisdata.html.

EIS No. 20130273, Final EIS, USFS, WY, Mackey Road Relocation, Review Period Ends: 11/04/2013, Contact: Misty Hays 307-358-4690.

EIS No. 20130274, Final EIS, USFS, OR, Galena Project, Review Period Ends: 11/04/2013, Contact: Dave Halemeier 541-575-3401.

EIS No. 20130275, Final EIS, AFS, BLM, CO, San Juan National Forest and Proposed Tres Rios, Field Office Land and Resource Management Plan, Review Period Ends: 10/21/2013, Contact: Mark Lambert 970-385-1240.

The U.S. Department of Agriculture's Forest Service and the U.S. Department of the Interior's Bureau of Land Management are joint lead agencies for the above project.

EIS No. 20130276, Draft Supplement, USN, WA, Introduction of the P-8A Multi-Mission Aircraft into the U.S. Navy Fleet, Comment Period Ends: 11/04/2013, Contact: Cory Zahm 757-322-4347.

EIS No. 20130277, Final Supplement, BLM, NV, Silver State Solar South Project Proposed Resource Management Plan Amendment, Review Period Ends: 10/21/2013, Contact: Nancy Christ 702-515-5136.

Amended Notices

EIS No. 20130227, Draft EIS, NASA, CA, Proposed Demolition and Environmental Cleanup Activities at Santa Susana Field Laboratory, Comment Period Ends: 10/01/2013, Contact: Allen Elliott 256-544-0662.

Revision to FR Notice Published 08/02/2013; Extending Comment Period from 09/16/2013 to 0/01/2013.

Dated: September 17, 2013.
Aimee S. Hessert,
Deputy Director, NEPA Compliance Division, Office of Federal Activities.

[FR Doc. 2013-22963 Filed 9-19-13; 8:45 am]

BILLING CODE 6560-50-P